Title 3—

The President

Proclamation 10057 of July 18, 2020

Death of John Lewis

By the President of the United States of America

A Proclamation

As a mark of respect for the memory and longstanding public service of Representative John Lewis, of Georgia, I hereby order, by the authority vested in me by the Constitution and the laws of the United States of America, that the flag of the United States shall be flown at half-staff at the White House and upon all public buildings and grounds, at all military posts and naval stations, and on all naval vessels of the Federal Government in the District of Columbia and throughout the United States and its Territories and possessions through July 18, 2020. I also direct that the flag shall be flown at half-staff for the same period at all United States embassies, legations, consular offices, and other facilities abroad, including all military facilities and naval vessels and stations.

IN WITNESS WHEREOF, I have hereunto set my hand this eighteenth day of July, in the year of our Lord two thousand twenty, and of the Independence of the United States of America the two hundred and forty-fifth.

[FR Doc. 2020-16098

Filed 7-22-20; 8:45 am]

Billing code 3295-F0-P